COMMISSION ON CIVIL RIGHTS

Sunshine Act Notice

AGENCY: United States Commission on Civil Rights.

ACTION: Notice of meeting.

DATE AND TIME: Friday, November 18, 2011; 9:30 a.m. EST.

PLACE: 624 Ninth Street NW., Room 540, Washington, DC 20425.

Meeting Agenda

This meeting is open to the public.

I. Approval of Agenda

II. Approval of the October 21, 2011 Meeting Minutes

III. Program Planning Update and discussion of projects:

• Update on 2012 Statutory Enforcement Report planning

• Update on Trafficking Briefing planning

• Approval of School Discipline Report—Findings and Recommendations

• Review of Concept Papers/Approval

IV. Management and Operations

• Staff Director's report

• Budget/Appropriations update

• Discussion of the use of Commission Letterhead/Approval of AI

• Discussion on Implementation of Page Limits for Commissioner Statements/Approval

V. State Advisory Committee Issues:

• Re-chartering the Arizona SAC

• Re-chartering the Hawaii SAC

VI. Adjourn

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: November 7, 2011.
Kimberly A. Tolhurst,
Senior Attorney-Advisor.

[FR Doc. 2011-29134 Filed 11-7-11; 4:15 pm]

BILLING CODE 6335-01-P